DEPARTMENT OF ENERGY

Federal Energy Regulatory Commission

[Project No. 12062-001]

Symbiotics, LLC; Notice of Surrender of Preliminary Permit

February 23, 2004.

Take notice that Symbiotics, LLC, permittee for the proposed Sun River Diversion Hydroelectric Project, has requested that its preliminary permit be terminated. The permit was issued on September 28, 2001, and would have expired on August 31, 2004. The proposed project would have been located on an existing federally-owned dam administered by the U.S. Bureau of Reclamation, on the Sun River in Teton County, Montana.

The permittee filed the request on February 13, 2004, and the preliminary permit for Project No. 12062 shall remain in effect through the 30th day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. E4-421 Filed 2-27-04; 8:45 am]

BILLING CODE 6717-01-P